DEPARTMENT OF TRANSPORTATION

Office of the Secretary

Aviation Proceedings, Agreements Filed During the Week Ending February 25, 2000

The following Agreements were filed with the Department of Transportation under the provisions of 49 U.S.C. 412 and 414. Answers may be filed within 21 days after the filing of the application.

Docket Number: OST-2000-6969.

Date Filed: February 22, 2000.

Parties: Members of the International Air Transport Association.

Subject

PTC2 EUR-AFR 0098 dated 18 February 2000

Europe-Africa Expedited Resolution 002hh

Intended effective date: 1 April 2000

Docket Number: OST-2000-6988.

Date Filed: February 25, 2000.

Parties: Members of the International Air Transport Association.

Subject

PTC12 NMS-AFR 0079 dated 15 February 2000

North Atlantic-Africa Resolutions r1-r21

Minutes—PTC12 NMS-AFR 0081 dated 18 February 2000

Tables—PTC12 NMS-AFR FARES 0048 dated 22 February 2000

Intended effective date: 1 April 2000

Docket Number: OST-2000-6989.

Date Filed: February 25, 2000.

Parties: Members of the International Air Transport Association.

Subject

PTC12 SATL-EUR 0058 dated 11 February 2000

South Atlantic-Europe Resolutions r1-r14

Minutes—PTC12 SATL-EUR 0059 dated 22 February 2000

Tables—PTC12 SATL-EUR FARES 0016 dated 18 February 2000

Intended effective date: 1 April 2000

Docket Number: OST-2000-6990.

Date Filed: February 25, 2000.

Parties: Members of the International Air Transport Association.

Subject

PTC12 MEX-EUR 0031 dated 15 February 2000

Mid Atlantic-Europe Resolutions r1-r22

Minutes—PTC12 MEX-EUR 0030 dated 11 February 2000

Tables—PTC12 MEX-EUR FARES 0010 dated 25 February 2000

Intended effective date: 1 May 2000

Docket Number: OST-2000-6991.

Date Filed: February 25, 2000.

Parties: Members of the International Air Transport Association.

Subject

PTC2 ME-AFR 0046 dated 22 February 2000

TC2 Middle East-Africa Expedited Resolutions r1-r3

Intended effective date: 1 April 2000 s

Dorothy W. Walker,
Federal Register Liaison.

[FR Doc. 00-7462 Filed 3-24-00; 8:45 am]

BILLING CODE 4910-62-P